ENVIRONMENTAL PROTECTION AGENCY

40 CFR Part 62

[EPA-R03-OAR-2017-0509; FRL-9972-52-Region 3]

Full Withdrawal of Approval and Promulgation of State Air Quality Plans for Designated Facilities and Pollutants; City of Philadelphia; Control of Emissions From Existing Sewage Sludge Incineration Units

AGENCY: Environmental Protection Agency (EPA).

ACTION: Withdrawal of direct final rule.

SUMMARY: Due to the receipt of an adverse comment, the Environmental Protection Agency (EPA) is withdrawing the October 26, 2017 direct final rule (DFR) that approved a negative declaration submitted by the City of Philadelphia. The negative declaration certified that no existing sewage sludge incineration (SSI) units exist within the City of Philadelphia. EPA stated in the direct final rule that if EPA received adverse comments by November 27, 2017, the rule would be withdrawn and not take effect. EPA subsequently received an adverse comment. This withdrawal action is being taken under sections 129 and 111(d) of the Clean Air Act.

DATES: The direct final rule published at 82 FR 49511 on October 26, 2017, is withdrawn effective December 26, 2017.

ADDRESSES: EPA has established docket number EPA-R03-OAR-2017-0509 for this action. The index to the docket is available electronically at http://www.regulations.gov and in hard copy at Air Protection Division, U.S. Environmental Protection Agency, Region III, 1650 Arch Street, Philadelphia, Pennsylvania 19103.

FOR FURTHER INFORMATION CONTACT: Mr. Mike Gordon, (215) 814-2039, or by email at gordon.mike@epa.gov.

SUPPLEMENTARY INFORMATION: Philadelphia Air Management Services submitted a negative declaration letter to EPA certifying on March 28, 2012 that there are no SSI units subject to the requirements of sections 111(d) and 129 of the CAA in its respective air pollution control jurisdiction. The negative declaration letter and EPA's technical support document for this action are available in the docket for this rulemaking and available online at www.regulations.gov.

Please see additional information provided in the direct final action published in the Federal Register on October 26, 2017 (82 FR 49511) and in the companion proposed rule which was also published on October 26, 2017 (82 FR 49563). In the DFR, we stated that if we received adverse comment by November 27, 2017, the rule would be withdrawn and not take effect. EPA subsequently received an adverse comment. EPA will address the comment received in a subsequent final action based upon the proposed action also published on October 26, 2017. EPA will not institute a second comment period on this action. As a result of the comment received, EPA is withdrawing the direct final rule approving the negative declaration submitted by the City of Philadelphia for existing SSI units.

List of Subjects in 40 CFR Part 62

Environmental protection, Administrative practice and procedure, Air pollution control, Intergovernmental relations, Reporting and recordkeeping requirements, Waste treatment and disposal.

Dated: December 15, 2017.
Cosmo Servidio
Regional Administrator, Region III.

Accordingly, the amendments to 40 CFR 62.9665, published on October 26, 2017 (82 FR 49511), are withdrawn effective December 26, 2017.

[FR Doc. 2017-27795 Filed 12-22-17; 8:45 am]

BILLING CODE 6560-50-P